NUCLEAR REGULATORY COMMISSION

[NRC-2013-0273]

Biweekly Notice: Applications and Amendments to Facility Operating Licenses and Combined Licenses Involving No Significant Hazards Considerations

Background

Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from November 28, 2013 to December 11, 2013. The last biweekly notice was published on December 10, 2013 (78 FR 74176).

ADDRESSES: You may submit comment by any of the following methods (unless this document describes a different method for submitting comments on a specific subject):

• Federal Rulemaking Web site: Go to http://www.regulations.gov and search for Docket ID NRC-2013-0273. Address questions about NRC dockets to Carol Gallagher; telephone: 301-287-3422; email: Carol.Gallagher@nrc.gov.

• Mail comments to: Cindy Bladey, Chief, Rules, Announcements, and Directives Branch (RADB), Office of Administration, Mail Stop: 3WFN, 06-44M, U.S. Nuclear Regulatory Commission, Washington, DC 20555-0001.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2013-0273 when contacting the NRC about the availability of information regarding this document. You may access publicly-available information related to this action by the following methods:

• Federal Rulemaking Web site: Go to http://www.regulations.gov and search for Docket ID NRC-2013-0273.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2013-0273 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in the NRC's adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC's guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Exelon Generation Company, LLC, Docket Nos. STN 50-456 and STN 50-457, Braidwood Station, Units 1 and 2, Will County, Illinois

Exelon Generation Company, LLC, Docket Nos. STN 50-454 and STN 50-455, Byron Station, Units 1 and 2, Ogle County, Illinois

Exelon Generation Company, LLC, Docket No. 50-461, Clinton Power Station, Unit 1, DeWitt County, Illinois

Exelon Generation Company, LLC, Docket Nos. 50-237 and 50-249, Dresden Nuclear Power Station, Units 2 and 3, Grundy County, Illinois

Exelon Generation Company, LLC, Docket Nos. 50-373 and 50-374, LaSalle County Station, Units 1 and 2, LaSalle County, Illinois

Exelon Generation Company, LLC, Docket Nos. 50-254 and 50-265, Quad Cities Nuclear Power Station, Units 1 and 2, Rock Island County, Illinois

Date of amendment request: September 3, 2013.

Description of amendment request: The proposed amendment would modify technical specification requirements to operate ventilation systems with charcoal filters for 10 hours, at a frequency specified in the Surveillance Frequency Control Program, in accordance with Technical Specification Task Force (TSTF)-522, Revision 0, “Revise Ventilation System Surveillance Requirements to Operate for 10 hours per Month.” The model safety evaluation for TSTF-522 was published as part of the Federal Register Notice for Availability dated September 20, 2012 (77 FR 58421).

Basis for proposed no significant hazards consideration determination: As required by 10 CFR 50.91(a), the licensee has provided its analysis of the issue of no significant hazards consideration, which is presented below:

1. Does the proposed change involve a significant increase in the probability or consequences of an accident previously evaluated?

Response: No.

The proposed change replaces an existing Surveillance Requirement to operate the [Standby Gas Treatment] SGT, [Control Room Ventilation] VC, [Control Room Area Filtration] CRAF, and Control Room Emergency Ventilation] CREV Systems equipped with electric heaters for a continuous 10-hour period at a frequency specified in the [Surveilance Frequency Control Program] SFCP with a requirement to operate the systems for 15 continuous minutes with heaters operating.

These systems are not accident initiators and therefore, these changes do not involve a significant increase in the probability of an accident. The proposed system and filter testing changes are consistent with current regulatory guidance for these systems and will continue to assure that these systems perform their design function which may include mitigating accidents. Thus the change does not involve a significant increase in the consequences of an accident.

Therefore, it is concluded that this change does not involve a significant increase in the probability or consequences of an accident previously evaluated.

2. Does the proposed change create the possibility of a new or different kind of accident from any accident previously evaluated?

Response: No.

The proposed change replaces an existing Surveillance Requirement to operate the SGT, VC, CRAF, and CREV Systems equipped with electric heaters for a continuous 10-hour period at a frequency specified in the SFCP with a requirement to operate the systems for 15 continuous minutes with heaters operating. The change proposed for these ventilation systems does not change any system operations or maintenance activities. Testing requirements will be revised and will continue to demonstrate that the Limiting Conditions for Operation are met and the system components are capable of performing their intended safety functions. The change does not create new failure modes or mechanisms and no new accident precursors are generated.

Therefore, it is concluded that this change does not create the possibility of a new or different kind of accident from any accident previously evaluated.

3. Does the proposed change involve a significant reduction in a margin of safety?

Response: No.

The proposed change replaces an existing Surveillance Requirement to operate the SGT, VC, CRAF, and CREV Systems equipped with electric heaters for a continuous 10-hour period at a frequency specified in the SFCP with a requirement to operate the systems for 15 continuous minutes with heaters operating.

The design basis for the ventilation systems' heaters is to heat the incoming air which reduces the relative humidity. The heater testing change proposed will continue to demonstrate that the heaters are capable of heating the air and will perform their design function. The proposed change is consistent with regulatory guidance.

Therefore, it is concluded that this change does not involve a significant reduction in a margin of safety. Based on the above, EGC concludes that the proposed change presents no significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the requested amendments involve no significant hazards consideration.

Attorney for licensee: Mr. Bradley Fewell, Associate General Counsel, Exelon Generation Company, LLC, 4300 Winfield Road, Warrenville, IL 60555.

NRC Branch Chief: Travis L. Tate.

NextEra Energy Duane Arnold, LLC, Docket No. 50-331, Duane Arnold Energy Center, Linn County, Iowa

Date of amendment request: August 29, 2013.

Description of amendment request: The proposed license amendment would revise the Duane Arnold Energy Center Technical Specifications by modifying existing Surveillance Requirements regarding the battery terminal and charger voltages and amperage provided in SR 3.8.4.1 and SR 3.8.4.6 to account for the new 60 cell batteries being placed in during the fall 2014 refueling outage.

Basis for proposed no significant hazards consideration determination: As required by 10 CFR 50.91(a), the licensee has provided its analysis of the issue of no significant hazards consideration, which is presented below:

1. Does the proposed change involve a significant increase in the probability or consequences of an accident previously evaluated?

Response: No.

The proposed changes modify Surveillance Requirements (SRs) regarding the battery terminal and charger voltages and amperage provided in SR 3.8.4.1 and SR 3.8.4.6. Accidents are initiated by the malfunction of plant equipment, or the catastrophic failure of plant structures, systems, or components. The performance of battery testing is not a precursor to any accident previously evaluated and does not change the manner in which the batteries are operated. The proposed testing requirements will not contribute to the failure of the batteries nor any plant structure, system, or component. NextEra Energy Duane Arnold has determined that the proposed change in testing provides an equivalent level of assurance that the batteries are capable of performing their intended safety functions. Thus, the proposed changes do not affect the probability of an accident previously evaluated.

Verifying battery terminal voltage while on float charge for the batteries helps to ensure the effectiveness of the charging system and the ability of the batteries to perform their intended function. The proposed changes involve the manner in which the subject batteries are tested or maintained, and have no effect on the types or amounts of radiation released or the predicted offsite doses in the event of an accident. The proposed testing requirements are sufficient to provide confidence that these batteries are capable of performing their intended safety functions.

Therefore, the proposed change does not involve a significant increase in the probability or consequences of an accident previously evaluated.

2. Does the proposed change create the possibility of a new or different kind of accident from any accident previously evaluated?

Response: No.

This TS SR change for the batteries is based upon the installation of new DAEC 125 VDC Safety Related Station Batteries (1D1 & 1D2). The new 60-cell batteries are at least equivalent to the existing 58-cell batteries. The new 60-cell batteries provide an acceptable design margin to the existing batteries. Battery circuit coordination is not adversely affected by the addition of the new batteries with 60-cells. The proposed changes to these TS SRs do not introduce any new accident initiators or precursors, or any new design assumptions for those components used to mitigate the consequences of an accident.

Therefore, the proposed change does not create the possibility of a new or different kind of accident from any accident previously evaluated.

3. Does the proposed change involve a significant reduction in a margin of safety?

Response: No.

The replacement of the existing 58-cell batteries with new 60-cell batteries and the subsequent TS SR changes that verify higher minimum terminal voltage on float charge in SR 3.8.4.1 and higher 125 VDC battery charger voltage with lower amperage in SR 3.4.3.6, and, the requirements associated with verifying their design functionality will not involve a significant reduction in the margin of safety. The new batteries are at least equivalent to the existing batteries. The two additional cells in the proposed new batteries provide an acceptable design margin. The increase in the number of cells from 58 to 60 will result in a small increase in battery terminal voltage on float charge. These proposed TS SRs simply document the verification of the new minimum voltage and amperage values. Accordingly, there is no significant reduction in the margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. James Petro, P.O. Box 14000, Juno Beach, FL 33408-0420.

NRC Branch Chief: Robert D. Carlson.

Southern California Edison Company (SCE), et al., Docket Nos. 50-361 and 50-362, San Onofre Nuclear Generating Station (SONGS), Units 2 and 3, San Diego County, California

Date of amendment request: October 21, 2013.

Description of amendment request: The amendment would revise Sections 5.1, 5.2, and 5.3 of the Technical Specifications to reflect the permanently shutdown status of SONGS, Units 2 and 3. Specifically, the proposed changes reflect new staffing and training requirements for operating staff.

Basis for proposed no significant hazards consideration determination: As required by 10 CFR 50.91(a), the licensee has provided its analysis of the issue of no significant hazards consideration, which is presented below:

1. Do the proposed changes involve a significant increase in the probability or consequences of an accident previously evaluated?

Response: No.

The proposed changes would allow SCE to replace reliance on operators licensed pursuant to 10 CFR Part 55 at SONGS, with certified fuel handlers and non-licensed operators, to comport to the permanently defueled condition of the station. The proposed changes have no effect on plant systems structures and components (SSCs) and no effect on the capability of any plant SSC to perform its design function. The proposed changes would not increase the likelihood of the malfunction of any plant SSC. Revised dose calculations were completed to support the changes to the Updated Final Safety Analysis Report (UFSAR) Chapter 15 Accident Analysis, and the UFSAR was revised to reflect the new analysis. The proposed changes would have no adverse effect on any of the previously evaluated accidents in the SONGS UFSAR. Reliance on certified fuel handlers and non-licensed operators allowed under the exemption will not affect the probability of occurrence of any previously analyzed accident.

Therefore, the proposed changes do not involve a significant increase in the probability or consequences of an accident previously evaluated.

2. Do the proposed changes create the possibility of a new or different kind of accident from any accident previously evaluated?

Response: No.

The proposed changes do not involve a physical alteration of the plant. No new or different type of equipment will be installed and there are no physical modifications to existing equipment associated with the proposed changes. Similarly, the proposed changes would not physically change any structures, systems or components involved in the mitigation of any accidents. Thus, no new initiators or precursors of a new or different kind of accident are created. Furthermore, the proposed changes do not create the possibility of a new accident as a result of new failure modes associated with any equipment or personnel failures. No changes are being made to parameters within which the plant is normally operated, or in the setpoints which initiate protective or mitigative actions, and no new failure modes are being introduced.

Therefore, the proposed changes do not create the possibility of a new or different kind of accident from any previously evaluated.

3. Do the proposed changes involve a significant reduction in a margin of safety?

Response: No.

The proposed changes do not alter the design basis or any safety limits for the plant. The proposed changes do not impact station operation or any plant SSC that is relied upon for accident mitigation.

Therefore, the proposed changes do not involve a significant reduction in a margin of safety.

The NRC staff has reviewed the licensee's analysis and, based on this review, it appears that the three standards of 10 CFR 50.92(c) are satisfied. Therefore, the NRC staff proposes to determine that the amendment requests involve no significant hazards consideration.

Attorney for licensee: Douglas K. Porter, Esquire, Southern California Edison Company, 2244 Walnut Grove Avenue, Rosemead, California 91770.

NRC Branch Chief: Douglas A. Broaddus.

Southern Nuclear Operating Company, Inc., Docket Nos. 52-025 and 52-026, Vogtle Electric Generating Plant, Units 3 and 4, Burke County, Georgia

Date of amendment request: November 4, 2013.

Description of amendment request: The proposed change would amend Combined License Nos. NPF-91 and NPF-92 for the Vogtle Electric Generating Plant (VEGP) Units 3 and 4 by departing from the Combined License Appendix C information. The changes correct editorial errors and promote consistency with the Updated Final Safety Analysis Report Tier 2 information.

Because, this proposed change requires a departure from Tier 1 information in the Westinghouse Advanced Passive 1000 DCD, the licensee also requested an exemption from the requirements of the Generic DCD Tier 1 in accordance with 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No

The proposed editorial and consistency Combined License (COL) Appendix C update does not involve a technical change, e.g., there is no design parameter or requirement, calculation, analysis, function, or qualification change. No structure, system, component (SSC) design or function would be affected. No design or safety analysis would be affected. The proposed changes do not affect any accident initiating event or component failure, thus the probabilities of the accidents previously evaluated are not affected. No function used to mitigate a radioactive material release and no radioactive material release source term is involved, thus the radiological releases in the accident analyses are not affected.

Therefore, the proposed amendment does not involve an increase in the probability or consequences of an accident previously evaluated.

2. Does the proposed amendment create the possibility of a new or different kind of accident from any accident previously evaluated?

Response: No.

The proposed editorial and consistency COL Appendix C update would not affect the design or function of any SSC, but will instead provide consistency between the SSC designs and functions currently presented in the Updated Final Safety Analysis Report (UFSAR) and the COL Appendix C information. The proposed (non-technical) changes would not introduce a new failure mode, fault, or sequence of events that could result in a radioactive material release.

Therefore, the proposed amendment does not create the possibility of a new or different kind of accident.

3. Does the proposed amendment involve a significant reduction in a margin of safety?

Response: No

The proposed editorial and COL Appendix C update is nontechnical, thus would not affect any design parameter, function, or analysis. There would be no change to an existing design basis, design function, regulatory criterion, or analysis. No safety analysis or design basis acceptance limit/criterion is involved.

Therefore, the proposed amendment does not reduce the margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Lawrence J. Burkhart.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

NextEra Energy Duane Arnold, LLC, Docket No. 50-331, Duane Arnold Energy Center, Linn County, Iowa

Date of application for amendment: March 14, 2013.

Brief description of amendment: The amendment allows the licensee to adopt the NRC-approved Technical Specifications Task Force (TSTF) Standard Technical Specifications Change Traveler TSTF-535, “Revise Shutdown Margin Definition to Address Advanced Fuel Designs” (ADAMS Accession No. ML112200436, dated August 8, 2011). The amendment modifies the technical specification definition of “shutdown margin” (SDM) to require calculation of the SDM at a reactor moderator temperature of 68 °F or a higher temperature that represents the most reactive state throughout the operating cycle. This change addressed new boiling-water reactor fuel designs which may be more reactive at shutdown temperatures above 68 °F.

Date of issuance: November 27, 2013.

Effective Date: As of the date of issuance and shall be implemented within 30 days.

Amendment No.: 288.

Renewed Facility Operating License No. DPR-49: The amendment revised the Technical Specifications.

Date of initial notice in Federal Register: May 28, 2013 (78 FR 31983).

The Commission's related evaluation of the amendment is contained in a Safety Evaluation dated November 27, 2013.

No significant hazards consideration comments received: No.

South Carolina Electric and Gas. Docket Nos. 52-027 and 52-028, Virgil C. Summer Nuclear Station, Units 3 and 4, Fairfield County, South Carolina

Date of amendment request: July 17, 2013.

Brief description of amendment: The amendment authorizes a departure from the Virgil C. Summer Nuclear Station Units 2 and 3 plant-specific Design Control Document (DCD) material incorporated into the Updated Final Safety Analysis Report (UFSAR) to revise requirements for design spacing of shear studs and the design of structural elements in order to address interferences and obstructions other than wall openings.

Date of issuance: November 18, 2013.

Effective Date: As of the date of issuance and shall be implemented within 30 days of issuance.

Amendment No.: Unit 2-9, and Unit 3-9.

Facility Combined Licenses No. NPF-93 and NPF-94: Amendment revised the Facility Combined Licenses.

Date of initial notice in Federal Register: September 3, 2013 (78 FR 54280).

The Commission's related evaluation of the amendment is contained in a Safety Evaluation dated November 18, 2013.

No significant hazards consideration comments received: No.

Southern Nuclear Operating Company, Inc., Docket Nos. 52-025 and 52-026, Vogtle Electric Generating Plant (VEGP) Units 3 and 4, Burke County, Georgia

Date of amendment request:

• February 15, 2013 (Agencywide Documents Access and Management System (ADAMS) Accession No. ML13050A214), and supplemented by letters dated May 21, 2013 (ADAMS Accession No. ML13144A125), August 22, 2013 (ADAMS Accession No. ML13235A224), and September 27, 2013 (ADAMS Accession No. ML13275A181).

• March 25, 2013 (ADAMS Accession Nos. ML13087A403 and ML13087A404), and supplemented by letters dated May 21, 2013 (ADAMS Accession No. ML13144A125), August 22, 2013 (ADAMS Accession No. ML13234A457).

• March 25, 2013 (ADAMS Accession Nos. ML13087A351 and ML13087A352), and supplemented by letters dated May 21, 2013 (ADAMS Accession No. ML13144A125), August 22, 2013 (ADAMS Accession No. ML13235A173), and September 26, 2013 (ADAMS Accession No. ML13270A057).

• April 5, 2013 (ADAMS Accession No. ML13098A727), and supplemented by letters dated May 21, 2013 (ADAMS Accession No. ML13144A125), August 22, 2013 (ADAMS Accession No. ML13235A175), and September 27, 2013 (ADAMS Accession No. ML13275A182).

• May 10, 2013 (ADAMS Accession No. ML13133A084), and supplemented by letters dated August 23, 2013 (ADAMS Accession No. ML13235A226), and September 27, 2013 (ADAMS Accession No. ML13275A181).

Brief description of amendment: The proposed amendment involves changes to the five Human Factors Engineering (HFE) Reports (prepared by Westinghouse and the NRC reviewed these reports as part of the AP1000 design certification rule) that are incorporated by reference in the VEGP UFSAR. These are:

• HFE Integrated System Validation (APP-OCS-GEH-320) (LAR 13-001)

• HFE Design Verification Plan (APP-OCS-GEH-120) (LAR 13-010)

• HFE Task Support Verification Plan (APP-OCS-GEH-220) (LAR 13-011)

• Human Engineering Discrepancy Resolution Process (APP-OCS-GEH-420) (LAR 13-012)

• Plant Startup HFE Design Verification Plan (APP-OCS-GEH-520) (LAR 13-013)

Date of issuance: December 6, 2013.

Effective Date: As of the date of issuance and shall be implemented within 30 days of issuance.

Amendment No.: Unit 3—15, and Unit 4—15.

Facility Combined Licenses No. NPF-91 and NPF-92: Amendment revised the Facility Combined Licenses.

Date of initial notice in Federal Register: March 19, 2013 (78 FR 16885 for LAR 13-001), May 14, 2013 (78 FR 28254 for LAR 13-010, 78 FR 28255 for LAR 13-011, and 78 FR 28256 for LAR 13-012), and June 25, 2013 (78 FR 38084 for LAR 13-013).

The Commission's related evaluation of the amendment is contained in a Safety Evaluation dated December 6, 2013.

No significant hazards consideration comments received: No.

Wolf Creek Nuclear Operating Corporation, Docket No. 50-482, Wolf Creek Generating Station, Coffey County, Kansas

Date of amendment request: September 19, 2012, as supplemented by letter dated July 15, 2013.

Brief description of amendment: The amendment revised the voltage limit for the emergency diesel generator full load rejection test specified by Technical Specification 3.8.1, “AC [Alternating Current] Sources—Operating,” Surveillance Requirement 3.8.1.10.

Date of issuance: December 2, 2013.

Effective Date: As of its date of issuance and shall be implemented within 90 days of the date of issuance.

Amendment No.: 206.

Renewed Facility Operating License No. NPF-42: The amendment revised the Operating License and Technical Specifications.

Date of initial notice in Federal Register: October 30, 2012 (77 FR 65726). The supplemental letter dated July 15, 2013, provided additional information that clarified the application, did not expand the scope of the application as originally noticed, and did not change the staff's original proposed no significant hazards consideration determination as published in the Federal Register.

The Commission's related evaluation of the amendment is contained in a Safety Evaluation dated December 2, 2013.

No significant hazards consideration comments received: No.

Wolf Creek Nuclear Operating Corporation, Docket No. 50-482, Wolf Creek Generating Station, Coffey County, Kansas

Date of amendment request: November 21, 2012, as supplemented by letters dated February 25, and May 28, 2013.

Brief description of amendment: The amendment revised Technical Specification (TS) 3.4.12, “Low Temperature Overpressure Protection (LTOP) System,” to reflect the mass input transient analysis that assumes an emergency core cooling system centrifugal charging pump and the normal charging pump capable of injecting into the reactor coolant system during the TS 3.4.12 Applicability.

Date of issuance: December 6, 2013.

Effective Date: As of its date of issuance and shall be implemented within 90 days of the date of issuance.

Amendment No.: 207.

Renewed Facility Operating License No. NPF-42: The amendment revised the Operating License and Technical Specifications.

Date of initial notice in Federal Register: February 5, 2013 (78 FR 8200). The supplemental letters dated February 25, and May 28, 2013, provided additional information that clarified the application, did not expand the scope of the application as originally noticed, and did not change the staff's original proposed no significant hazards consideration determination as published in the Federal Register.

The Commission's related evaluation of the amendment is contained in a Safety Evaluation dated December 6, 2013.

No significant hazards consideration comments received: No.

Dated at Rockville, Maryland, this 16th day of December, 2013.
For the Nuclear Regulatory Commission.
Michele G. Evans,
Director, Division of Operating Reactor Licensing, Office of Nuclear Reactor Regulation.

[FR Doc. 2013-30540 Filed 12-23-13; 8:45 am]

BILLING CODE 7590-01-P